SECURITIES AND EXCHANGE COMMISSION

[Release No. 34-83463]

Draft 2018-2022 Strategic Plan for Securities and Exchange Commission

AGENCY: Securities and Exchange Commission.

ACTION: Request for comment.

SUMMARY: The Securities and Exchange Commission (SEC) is providing notice that it is seeking comments on its draft 2018-2022 Strategic Plan. The draft Strategic Plan includes a draft of the SEC's mission, vision, values, strategic goals, and planned initiatives.

DATES: Comments should be received on or before July 25, 2018.

ADDRESSES: Comments may be submitted by any of the following methods:

Electronic Comments

Send an email to PerformancePlanning@sec.gov.

Paper Comments

Send paper comments to Nicole Puccio, Branch Chief, Securities and Exchange Commission, 100 F Street NE, Washington, DC 20549-2521.

FOR FURTHER INFORMATION CONTACT: Nicole Puccio, Branch Chief, Office of Financial Management, at (202) 551-6638, Securities and Exchange Commission, 100 F Street NE, Washington, DC 20549-2521.

SUPPLEMENTARY INFORMATION: The draft strategic plan is available at the Commission's website at https://www.sec.gov/files/sec-strategic-plan-2018-2022.pdf or by contacting Nicole Puccio, Branch Chief, Office of Financial Management, at (202) 551-6638, Securities and Exchange Commission, 100 F Street NE, Washington, DC 20549-2521.

By the Commission.
Dated: June 19, 2018.
Brent J. Fields,
Secretary.

[FR Doc. 2018-13484 Filed 6-22-18; 8:45 am]

BILLING CODE 8011-01-P